DEPARTMENT OF HEALTH AND HUMAN SERVICES

Office of the Secretary

Office of the Assistant Secretary for Planning and Evaluation (ASPE)—Area Poverty Research Centers

ACTION: Notice, correction.

SUMMARY: The Department of Health and Human Services published a document in the Federal Register of June 20, 2005 concerning a notice of funding availability to establish Area Poverty Research Centers. The document contained an incorrect date.

FOR FURTHER INFORMATION CONTACT: Theresa Jarosik, 301-496-7075.

Correction

In the Federal Register of June 20, 2005, in Federal Register document 05-12018 on page 35443, in the third column, correct the Award Notices caption to read:

A successful applicant can expect to receive notification of grant award on or about September 30, 2005.

Dated: August 15, 2005.
Michael J. O'Grady,
Assistant for Secretary for Planning and Evaluation.

[FR Doc. 05-16451 Filed 8-18-05; 8:45 am]

BILLING CODE 4154-05-P